FARM CREDIT ADMINISTRATION

Farm Credit Administration Board; Sunshine Act Meeting

AGENCY: Farm Credit Administration.

SUMMARY: Notice is hereby given, pursuant to the Government in the Sunshine Act (5 U.S.C. 552b(e)(3)), of the regular meeting of the Farm Credit Administration Board (Board).

DATE AND TIME: The regular meeting of the Board will be held at the offices of the Farm Credit Administration in McLean, Virginia, on September 11, 2003, from 9 a.m. until such time as the Board concludes its business.

FOR FURTHER INFORMATION CONTACT: Jeanette C. Brinkley, Secretary to the Farm Credit Administration Board, (703) 883-4009, TTY (703) 883-4056.

ADDRESSES: Farm Credit Administration, 1501 Farm Credit Drive, McLean, Virginia 22102-5090.

SUPPLEMENTARY INFORMATION: Parts of this meeting of the Board will be open to the public (limited space available), and parts will be closed to the public. In order to increase the accessibility to Board meetings, persons requiring assistance should make arrangements in advance. The matters to be considered at the meeting are:

Open Session

A. Approval of Minutes

—August 14, 2003 (Open and Closed)

B. Reports

• Trends in Corporate Governance

• Corporate/Non-corporate Approvals Report

• FCS Building Association Quarterly Report

• Financial Institution Rating System (FIRS)—Earnings Discussion

• FCA's Interagency Agreements with SBA and USDA

C. New Business—Other

• Fall 2003 Unified Agenda/FY 2004 Regulatory Performance Plan Approval

• FY 2004/2005 Budget Approvals

Closed Session *

* Session Closed-Exempt pursuant to 5 U.S.C. 552b(c)(8) and (9).

New Business

• OSMO Quarterly Report

Dated: September 5, 2003.
Jeanette C. Brinkley,
Secretary, Farm Credit Administration Board.

[FR Doc. 03-23013 Filed 9-5-03; 11:10 am]

BILLING CODE 6705-01-P